ENVIRONMENTAL PROTECTION AGENCY

40 CFR Part 300

[FRL-6849-7]

National Oil and Hazardous Substances Contingency Plan; National Priorities List Update

AGENCY: Environmental Protection Agency.

ACTION: Notice of intent to delete the release from the Route 940 Drum Dump from the National Priorities List (NPL).

SUMMARY: The Environmental Protection Agency (EPA) Region III announces its intent to delete the release from the Route 940 Drum Dump (Site) from the National Priorities List (NPL) and requests public comment on this action. The NPL constitutes Appendix B of 40 CFR part 300 which is the National Oil and Hazardous Substance Pollution Continency Plan (NCP), which EPA promulgated pursuant to section 105 of the Comprehensive Environmental Response, Compensation and Liability Act of 1980 (CERCLA), as amended, EPA and the Pennsylvania Department of Environmental Protection (PADEP) have determined that the Site poses no significant threat to public health or the environment and, therefore, further remedial measures pursuant to CERCLA are not appropriate.

DATES: Comments concerning this Site may be submitted on or before September 13, 2000.

ADDRESSES: Comments may be mailed to Donna Santiago, (3HS22), Remedial Project Manager, U.S. Environmental Protection Agency, Region III, 1650 Arch St., Philadelphia, PA 19103, 215-814-3222, Fax 215-814-3002, e-mail santiago.donna@epa.gov. Comprehensive information on this Site is available through the public docket which is available for viewing at the Site information repositories at the following locations: U.S. EPA Region III, Administrative Records, 1650 Arch St., Philadelphia, PA 19103, 215-566-3157; and Tobyhanna Township Municipal Building, State Ave, Pocono Pines, PA 15065.

FOR FURTHER INFORMATION CONTACT: Donna Santiago (3HS22), U.S. Environmental Protection Agency, Region III, 1650 Arch St., Philadelphia, PA 19103, 215-814-3222, Fax 215-814-3002, e-mail santiago.donna@epa.gov.

SUPPLEMENTARY INFORMATION:

Table of Contents

I. Introduction

II. NPL Deletion Criteria

III. Deletion Procedures

IV. Basis of Intended Site Deletion

I. Introduction

The U.S. Environmental Protection Agency (EPA) Region III announces its intent to delete the release from the Route 940 Drum Dump, Pocono Summit, Monroe County, Pennsylvania, from the National Priorities List (NPL), Appendix B of the National Oil and Hazardous Substances Pollution Contingency Plan (NCP), 40 CFR part 300, and requests comments on the deletion. EPA identifies sites that appear to present a significant risk to public health, welfare, or the environment and maintains the NPL as the list of these sites. As described in § 300.425(e)(3) of the NCP, sites deleted from the NPL remain eligible for remedial actions in the unlikely event that conditions at the site warrant action.

EPA and the Commonwealth of Pennsylvania have determined that the remedial action for the Site has been successfully executed. EPA will accept comments on the proposal to delete the release from the NPL for thirty days after publication of this notice in the Federal Register.

Section II of this notice explains the criteria for deleting sites from the NPL. Section III discusses the procedures that EPA is using for this action. Section IV discusses the Route 940 Drum Dump and explains how the Site meets the deletion criteria.

II. NPL Deletion Criteria

Section 300.425(e) of the NCP provides that releases may be deleted from the NPL where no further response is appropriate. In making a determination to delete a release from the NPL, EPA shall consider, in consultation with PADEP, whether any of the following criteria has been met:

(i) Responsible parties or other persons have implemented all appropriate response actions required;

(ii) All appropriate Fund-financed response under CERCLA has been implemented, and no further response action by responsible parties is appropriate; or

(iii) The remedial investigation has shown that the release poses no significant threat to public health or the environment and, therefore, taking of remedial measures is not appropriate.

Even when the release is deleted from the NPL, where hazardous substances, pollutants, or contaminants remain at the site above levels that allow for unlimited use and unrestricted exposure, EPA is required, by statue or policy, to conduct a subsequent review of the site at least every five years after the initiation of the remedial action at the site to ensure that the site remains protective of public health and the environment. In the case of this Site, EPA conducted a five year review in 1997. Based on this review, EPA determined that conditions at the Site remain protective of public health and the environment. If new information becomes available which indicates a need for further action, EPA may initiate remedial actions. Whenever there is a significant release from a site deleted from the NPL, the site shall be restored to the NPL without the application of the Hazard Ranking System (HRS).

III. Deletion Procedures

The following procedures were used for the intended deletion of the Site:

(1) All appropriate response under CERCLA has been implemented and no further action by EPA is appropriate; (2) The Pennsylvania Department of Environmental Protection (PADEP) concurred with the proposed deletion; (3) A notice has been published in the local newspaper and has been distributed to appropriate Federal, State, and local officials and other interested parties announcing the commencement of a 30-day public comment period on EPA's Notice of Intent to Delete; and, (4) All relevant documents have been made available for public review in the local Site information repository.

For deletion of the release from the NPL, EPA's Regional Office will accept and evaluate public comments on EPA's Notice of Intent to Delete before making a final decision to delete. If necessary, the Agency will prepare a Responsiveness Summary, responding to each significant comment submitted during the public comment period.

Deletion of the release from the NPL does not itself create, alter, or revoke any individual's rights or obligations. The NPL is designed primarily for informational purposes and to assist Agency management. As mentioned in Section II of this document, § 300.425(e)(3) of the NCP states that the deletion of a release from a site from the NPL does not preclude eligibility for future response actions.

A deletion occurs when the Regional Administrator places a final action in the Federal Register. Generally, the NPL will reflect deletions in the final update following the notice. Public notices and copies of the Responsiveness Summary will be made available to local residents by the Regional Office.

IV. Basis for Intended Site Deletion

The following summary provides the Agency's rationale for the proposal to delete this release from the NPL.

Site Background and History

The Route 940 Drum Dump (Site) is located in Tobyhanna Township near Pocono Summit, Monroe County, Pennsylvania. The Site consists of a grass-covered open clearing consisting of approximately 2.5 acres. Landmark International purchased the property in 1976 from the J.E.M. Partnership, which had owned the property since 1974. Between 1974 and 1978, approximately 600 drums of unknown contents from an unknown source were stored on the site. In 1978 the property owner arranged for removal of the drums. However in 1983 it was discovered that some of the drums had been buried on site and the contents of some of the drums were dumped on the surface of the ground on Site. The US EPA and PADEP initiated investigations and discovered rusted remains of several crushed 55-gallon drums in shallow trenches. Following EPA and PADEP response actions at the Site, Landmark conducted further investigations and actions at the Site in 1983. Contaminated soils were excavated and approximately 3000 tons of contaminated soil were removed from the Site. In 1987 an additional 4,000 cubic yards of contaminated soil were removed from the Site. In 1985 the Site was proposed for inclusion on the National Priorities List, 40 CFR part 300, and was finalized in July 1987.

In 1987, Landmark entered into a Consent Order with PADEP to undertake an RI/FS for the Site. In 1990, Landmark's performance of the RI/FS pursuant to the consent order was suspended due to non-compliance. The Site was subsequently turned back to EPA and a fund lead RI/FS was initiated. EPA's goals for Site investigation were to identify risks posed by the Site, to develop remedial alternatives to address those risks, and to protect human health and the environment. There were no principal threats identified at this Site based on the EPA criteria. As part of the RI a risk assessment was conducted to evaluate the potential impacts of the Site on human health and the environment. Upon review of the baseline risk assessment, it was determined that under the various risk scenarios evaluated for contaminants of concern at the Site, the Site contaminants did not pose any risks or threat to human health or the environment which would warrant EPA undertaking a remedial action. It should be noted that while there are naturally occurring metals, which at the concentrations detected in groundwater samples could potentially pose a health threat to those who use it as a drinking water source, EPA can take no action. Under the Superfund Law, EPA is unable to address any risks that are posed by naturally occurring elements within an area except in conjunction with the remediation of any Site related contamination that is not naturally occurring. The Record of Decision (ROD) for the Site was signed in 1992. The selected remedial action in the ROD was, No Action. Under this alternative EPA will not undertake any type of remedial action since there were no site related risks which would warrant EPA to implement a remedial action.

Response Actions

The 1992 ROD which identifies No Action as the selected remedy indicates that EPA will not undertake any type of remedial action since there were no site related risks which would warrant EPA to implement a remedial action. It has been determined that the previous actions which were completed by EPA, PADEP and Landmark have remediated the Site to the point where the residual risks posed by the Site are below health-based standards and therefore do not warrant any further remedial action.

Monitoring

The 1992 ROD for the Site required that ground water monitoring be conducted for a period of at least five years to assure that changes have not occurred which would pose a risk to human health or the environment. Five years of annual ground water monitoring activities have been conducted at the Site. Monitoring results at the Site indicate that the selected alternative identified in the 1992 ROD remains protective of human health and the environment.

Five-Year Review

EPA completed a five-year review report in 1997, where it evaluated the results of the monitoring activities at the Site. This report concluded that the Route 940 Site is protective of human health and the environment. Specifically, the 1997 five-year review recommended to continue monitoring activities at the Site for an additional year as required in the ROD to assess the continued effectiveness of the remedial action.

Applicable Deletion Criteria

The remedy selected for this Site has been implemented in accordance with the Record of Decision. Therefore, no further response action is necessary. The remedy has resulted in the significant reduction of the long-term potential for release of contaminants, therefore, human health and potential environmental impacts have been minimized. EPA and the Commonwealth of Pennsylvania find that the remedy implemented continues to provide adequate protection of human health and the environment.

Dated: August 3, 2000.
Thomas C. Voltaggio,
Acting Regional Administrator, Region 3.

[FR Doc. 00-20426 Filed 8-11-00; 8:45 am]

BILLING CODE 6560-50-U